NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 25, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301)713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Deputy Chief of Staff for Intelligence (N1-AU-99-12, 4 items, 4 temporary items). Records relating to Sensitive Compartmented Information (SCI) personnel matters, SCI contractor operations, SCI facility accreditations, and physical security. Files pertain to such subjects as personnel indoctrinations and debriefings, visit requests, periodic investigations, contract security classification specifications, facility assessments and risk analyses, and surveillance countermeasures inspections. Also included are electronic copies of records created using electronic mail and word processing. This schedule allows earlier disposal of recordkeeping copies of these files, which were previously approved for disposal.

2. Department of Commerce, Bureau of Export Administration (N1-476-00-1, 18 items, 18 temporary items). Administrative and operational records of the Information Technology Team that are used to support the processing of data declarations received from the U.S. chemical industry under the Chemical Weapons Convention. Records include chemical determinations, facility agreements, meeting minutes, administrative manuals, chronological files, working papers, and an information system containing data declarations from chemical facilities that have been imaged. Also included are electronic copies of records created using electronic mail and word processing.

3. Department of Health and Human Services, Centers for Disease Control (N1-442-99-2, 6 items, 4 temporary items). Input sources for the Longitudinal Study of Aging, 1984-1990, including interview questionnaire forms, electronic data extracted from Medicare and National Death Index databases, and software and computer manuals used to access and interpret the data. Proposed for permanent retention are the master data files and supporting documentation.

4. Department of the Interior, Bureau of Land Management (N1-49-99-1, 2 items, 2 temporary items). Electronic copies of records created using electronic mail and word processing that relate to mineral lease sale files. Also included are recordkeeping copies of files that relate to nominations for parcels that are unavailable for leasing. Recordkeeping copies of other mineral lease sale records were previously scheduled, including final reports and maps, which are scheduled for permanent retention.

5. Department of Justice, United States Marshals Service (N1-527-00-1, 2 items, 2 temporary items). Century Date Conversion (Y2K) records that pertain to Year 2000 efforts. Records relate to the development of plans and strategies, the review of computer systems and applications, remedial efforts, and program reviews. Included are plans, contracts, policy letters, and correspondence. Also included are electronic copies of documents created using electronic mail and word processing.

6. Department of Justice, Drug Enforcement Administration (N1-170-00-1, 9 items, 6 temporary items). Chronological files of the Administrator and Deputy Administrator and records pertaining to the activities of the Executive Assistant and Special Assistant to the Administrator. Also included are electronic copies of documents created using electronic mail and word processing that are associated with files accumulated in the Office of the Administrator. Proposed for permanent retention are the Administrator's subject files, briefing books, appointment schedules, and committee and conference records.

7. Department of Justice, Justice Management Division (N1-60-00-7, 2 items, 2 temporary items). Century Date Conversion (Y2K) records that pertain to Year 2000 efforts. Records relate to the development of plans and strategies, the review of computer systems and applications, remedial efforts, and program reviews. Included are plans, contracts, policy letters, and correspondence. Also included are electronic copies of documents created using electronic mail and word processing.

8. Department of Justice, Federal Bureau of Prisons (N1-129-00-3, 5 items, 3 temporary items). Records accumulated in wardens' offices at correctional facilities. Included are strategic planning records and correspondence files pertaining to such matters as staff meetings, congressional inquiries stemming from inmate complaints, emergency guidelines, awards, program reviews, and weekly activities of component units of the facility. Also included are electronic copies of documents created using electronic mail and word processing. Audiovisual records, such as still and motion pictures, audio tapes, and video tapes, are proposed for permanent retention as are institution-specific supplements that adjust national policies to meet the needs of individual facilities.

9. Department of Justice, Federal Bureau of Prisons (N1-129-00-4, 4 items, 4 temporary items). Records accumulated at correctional facilities consisting of chronological files, reference/subject files, and records relating to audits of the facility. Also included are electronic copies of documents created using electronic mail and word processing.

10. Department of Justice, Federal Bureau of Prisons (N1-129-00-7, 2 items, 2 temporary items). Chaplain records consisting of such files as correspondence with local churches and religious groups, meeting minutes, and lists of inmates' religious preferences. Also included are electronic copies of documents created using electronic mail and word processing.

11. Department of Justice, Federal Bureau of Prisons (N1-129-00-8, 7 items, 7 temporary items). Records relating to inmate education programs. Included are such records as enrollment listings, general equivalency diploma test scores, lesson plans, files documenting student progress, class transcripts, and minutes of meetings of education advisory committees. Also included are electronic copies of documents created using electronic mail and word processing.

12. Department of Labor, Office of Inspector General (N1-174-00-1, 14 items, 13 temporary items). Records relating to investigations of allegations of fraud, abuse, and violation of laws and regulations relating to agency personnel, programs, and operations. Included are investigative case files, an electronic case tracking system, and an electronic system containing information concerning alleged criminal activity. Also included are electronic copies of documents created using electronic mail and word processing. Recordkeeping copies of significant investigative case files are proposed for permanent retention.

13. Department of State, Office of the Legal Adviser (N1-59-00-6, 2 items, 2 temporary items). Non-precedent and non-historical extradition case files that were accumulated prior to 1974. Also included are electronic copies of documents relating to extradition case files that are created using electronic mail and word processing. Recordkeeping copies of case files that are historically valuable or established precedents were previously approved for permanent retention. Recordkeeping copies of files postdating 1974 were previously approved for disposal.

14. Department of Transportation, Federal Highway Administration (N1-406-99-2, 2 items, 2 temporary items). Records relating to highway construction and rehabilitation projects on non-Federal property accumulated after 1966. Included are such records as letters of authorization, inspection reports, project agreements, project modification documents, and copies of construction contracts. Also included are electronic copies of documents created using electronic mail and word processing. Financial information concerning projects is included in the agency's Fiscal Management Information System, which was previously approved for permanent retention. Any individual project files identified as historically valuable by the agency will be appraised by NARA on a case-by-case basis.

15. Department of Transportation, Research and Special Programs Administration (N1-467-00-1, 3 items, 3 temporary items). Electronic copies of records created using electronic mail and word processing that are associated with case files accumulated in connection with applications for relief from an agency regulation. This schedule also authorizes the agency to destroy paper records after they have been imaged and to retain scanned files longer than the previously approved retention period if they are needed for reference purposes.

16. Department of the Treasury, Bureau of Alcohol, Tobacco, and Firearms (N1-436-00-1, 1 item, 1 temporary item). Product Compliance Branch label applications records, including applications, denials, and related papers. This schedule reduces the retention period for these records, which were previously approved for disposal.

17. Department of the Treasury, Office of the Comptroller of the Currency (N1-101-97-1, 8 items, 8 temporary items). Electronic information systems of the Office of Bank Supervision Policy concerning the assessment and supervision of financial institutions. Included are master files and documentation for the Foreign Branches System, the National Bank Surveillance Video Display System, the Supervisory Monitoring System, and the Text Processing System.

18. Advisory Commission on Electronic Commerce, Agency-wide (N1-220-00-3, 17 items, 9 temporary items). Copies of Federal Register notices, video recordings of Commission meetings, press clippings, meeting arrangement files, financial records, research documents used to prepare the Commission's final report, public mail, and electronic copies of documents created using electronic mail and word processing. Proposed for permanent retention are such records as the Commission's charter and other records pertaining to its establishment and mission, transcripts of Commission meetings, chronological files, press releases, and the Commission's final report.

19. Armed Forces Retirement Home, Agency-wide (N1-231-00-1, 4 items, 4 temporary items). Records relating to the health care of residents of the Armed Forces Retirement Home, including the United States Soldiers' and Airmen's Home and the United States Naval Home. Included are such records as forms, reports, x-rays, and laboratory findings. Also included are electronic copies of documents created using electronic mail and word processing.

20. Environmental Protection Agency, Agency-wide (N1-412-99-12, 2 items, 2 temporary items). Agendas, meeting minutes, reports, and other records relating to internal agency committees and non-rulemaking work groups, including electronic copies of documents created using electronic mail and word processing. The schedule makes minor changes in the disposition instructions for recordkeeping copies of these files, which were previously approved for disposal.

21. Environmental Protection Agency, Agency-wide (N1-412-99-10, 9 items, 7 temporary items). Electronic and paper records relating to the agency's responsibility under its acid rain program to monitor the emissions of utility plants and the compliance by the utilities with the Clean Air Act. Software associated with three electronic systems is proposed for disposal. Electronic data and related documentation for an electronic system used to document authorizations to emit sulfur dioxide are proposed for disposal as are the data and documentation for a system pertaining to acid rain. The documentation and electronic data associated with the Emissions Tracking System are proposed for permanent retention. This electronic system tracks emissions from utilities under the acid rain program.

22. Federal Energy Regulatory Commission, Agency-wide (N1-138-99-4, 3 items, 3 temporary items). Records relating to planning, administering, and conducting management studies and surveys. Files pertain to such subjects as staffing levels, turnover rates, reference room operations, and duplicating services. Included are final reports, briefing material, work papers, and project plans. Also included are electronic copies of documents created using electronic mail and word processing. Recordkeeping copies of files relating to substantive organizational changes were previously approved for permanent retention.

23. Federal Retirement Thrift Investment Board, Office of General Counsel (N1-474-00-1, 3 items, 3 temporary items). Electronic copies of documents created using electronic mail and word processing that pertain to legal opinions. This schedule also proposes for disposal an electronic file that contains digests and scanned images of legal opinions and provides for a reduction in the retention period for recordkeeping copies of these opinions, which were previously approved for disposal.

24. National Archives and Records Administration, Agency-wide (N1-64-00-6, 6 items, 6 temporary items). Century Date Conversion (Y2K) policy, planning, and implementation records. Included are such records as project plans, minutes of meetings, decision documents, continuity and contingency plans, documents relating to specific applications and systems reviewed, implementation plans, budget files, and Inspector General inquiries. Also included are electronic copies of documents created using electronic mail and word processing.

Dated: April 4, 2000.
Michael J. Kurtz,
Assistant Archivist for Record Services, Washington, DC.

[FR Doc. 00-8781 Filed 4-7-00; 8:45 am]

BILLING CODE 7515-01-P